DEPARTMENT OF AGRICULTURE

Natural Resources Conservation Service

Notice of Proposed Changes to Section IV of the Field Office Technical Guide (FOTG) of the Natural Resources Conservation Service in Tennessee

AGENCY: Natural Resources Conservation Service (NRCS) in Tennessee, U.S. Department of Agriculture.

ACTION: Notice of Availability of proposed changes in Section IV of the FOTG of the NRCS in Tennessee for review and comment.

SUMMARY: It is the intention of NRCS in Tennessee to issue conservation practice standards, Closure of Waste Impoundments (Code 360), Grade Stabilization Structure (Code 410), Manure Transfer (Code 634), Nutrient Management (Code 590), Pond (Code 378), Trough or Tank (Code 614), Waste Storage Facility (Code 313), Waste Treatment Lagoon (Code 359), Waste Utilization (Code 633), for inclusion in Section IV of the FIELD OFFICE TECHNICAL GUIDE (FOTG).

DATES: Comments will be received until July 5, 2000.

FOR FURTHER INFORMATION CONTACT: Inquire in writing to James W. Ford, State Conservationist, Natural Resources Conservation Service (NRCS), 675 U.S. Courthouse, 801 Broadway, Nashville, Tennessee, 37203. Copies of the practice standards will be made available upon written request.

SUPPLEMENTARY INFORMATION: Section 343 of the Federal Agriculture Improvement and Reform Act of 1996 states that revisions made after enactment of the law to NRCS state technical guides used to perform highly erodible land and wetlands provisions of the law shall be made available for Public review and comment. For the next 30 days, the NRCS in Tennessee will receive comments relative to the proposed changes. Following that period, a determination will be made by the NRCS in Tennessee regarding disposition of those comments and a final determination of change will be made.

Dated: May 26, 2000.
Donald L. Dotson,
Acting State Conservationist, Natural Resources Conservation Service, Nashville, Tennessee.

[FR Doc. 00-13902 Filed 6-2-00; 8:45 am]

BILLING CODE 3410-16-M